Proclamation 7814 of September 14, 2004

National POW/MIA Recognition Day, 2004

By the President of the United States of America

A Proclamation

Throughout our history, when the enemies of freedom were on the march and our country needed brave Americans to take up arms and stop their advance, the members of our Armed Forces answered the call of duty. These patriotic men and women defended our country in hours of need and continue to stand watch for freedom. Many of these courageous individuals risked capture, imprisonment, and their lives to protect our homeland. On National POW/MIA Recognition Day, we honor the sacrifices and remarkable determination of those captured as prisoners of war. We also remember those who remain unaccounted for and ask for God's special blessing on their families. Our Nation will not forget these heroes, and we will not stop searching for our service members who are missing in action.

On National POW/MIA Recognition Day, the flag of the National League of Families of American Prisoners and Missing in Southeast Asia is flown over the White House, the Capitol, the Departments of State, Defense, and Veterans Affairs, the Selective Service System Headquarters, the National Vietnam Veterans and Korean War Veterans Memorials, U.S. military installations, national cemeteries, and other locations across our country. This flag serves as a reminder of our continued commitment to those still missing and those imprisoned while serving in World War II, Korea, Vietnam, the Persian Gulf, Somalia, Kosovo, Iraq, and other conflicts. We remain grateful for their service and sacrifice and pledge to continue to achieve the fullest possible accounting for all of our men and women in uniform still missing.

NOW, THEREFORE, I, GEORGE W. BUSH, President of the United States of America, by virtue of the authority vested in me by the Constitution and laws of the United States, do hereby proclaim September 14, 2004, as National POW/MIA Recognition Day. I call upon the people of the United States to join me in saluting all American POWs and those missing in action who valiantly served our great country. I call upon Federal, State, and local government officials and private organizations to observe this day with appropriate ceremonies and activities.

IN WITNESS WHEREOF, I have hereunto set my hand this fourteenth day of September, in the year of our Lord two thousand four, and of the Independence of the United States of America the two hundred and twenty-ninth.

B

[FR Doc. 04-21124

Filed 9-16-04; 8:45 am]

Billing code 3195-01-P